DEPARTMENT OF THE INTERIOR

Bureau of Land Management

[19X 1109AF LLUT930000 Ll6100000.DQ0000.LXSSJ0640000]

Notice of Error in Proposed Resource Management Plans and Associated Environmental Impact Statement for the Grand Staircase-Escalante National Monument-Grand Staircase, Kaiparowits, and Escalante Canyon Units and Federal Lands Previously Included in the Monument That Are Excluded From the Boundaries; New Protest Period, Utah

AGENCY: Bureau of Land Management, Interior.

ACTION: Notice of error and protest period.

SUMMARY: The Bureau of Land Management (BLM) Grand Staircase-Escalante National Monument (GSENM) and Kanab Field Office have published modified Proposed Resource Management Plans (RMPs) and an associated Environmental Impact Statement (EIS) for the GSENM-Grand Staircase, Kaiparowits, and Escalante Canyon Units and Federal lands previously included in the Monument that are excluded from the boundaries, referred to as the Kanab-Escalante Planning Area (KEPA). This action corrects an error related to Appendix W within the Proposed RMPs and Final EIS that the BLM had published on August 23, 2019. The BLM is modifying the Proposed RMPs and Final EIS to respond to certain public comments that the BLM received during the Draft EIS public-comment period that were not addressed in the Appendix W-Comment Analysis Report. By this Notice, the BLM is announcing the opening of a protest period concerning the modified Proposed RMPs and Final EIS.

DATES: The BLM planning regulations state that any person who meets the conditions as described in the regulations may protest the BLM's Proposed RMPs and Final EIS. A person who meets the conditions and files a protest must file the protest within 30 days of the date that the Environmental Protection Agency publishes its Notice of Availability for the modified Proposed RMPs and Final EIS in the Federal Register.

ADDRESSES: The modified Proposed RMPs and Final EIS and accompanying errata sheet are available on the BLM ePlanning website at https://go.usa.gov/xVCGJ. Click the “Documents and Report” link on the left side of the screen to find the electronic versions of these materials. Hard copies of the modified Proposed RMPs and Final EIS are available for public inspection at the Kanab Field Office, 669 South Highway 89A, Kanab, UT 84741.

Instructions for filing a protest with the BLM regarding the Proposed RMPs may be found online at https://www.blm.gov/filing-a-plan-protest and at 43 CFR 1610.5-2.

FOR FURTHER INFORMATION CONTACT: Harry Barber, Monument Manager, telephone (435) 644-1200; address 669 S Hwy 89A, Kanab, UT 84741; email BLM_UT_CCD_monuments@blm.gov. Persons who use a telecommunications device for the deaf (TDD) may call the Federal Relay Service (FRS) at 1-800-877-8339 to contact Mr. Barber during normal business hours. The FRS is available 24 hours a day, 7 days a week, to leave a message or question. You will receive a reply during normal business hours.

SUPPLEMENTARY INFORMATION: On December 4, 2017, President Donald J. Trump signed Presidential Proclamation 9682 modifying the boundaries of the GSENM to exclude from designation and reservation approximately 861,974 acres of land. Lands that remain part of the GSENM are included in three units, known as the Grand Staircase, Kaiparowits, and Escalante Canyons Units, and are reserved for the care and management of the objects of historic and scientific interest described in Proclamation 6920, as modified by Proclamation 9682. Lands that are excluded from the Monument boundaries are now referred to as the KEPA and are managed in accordance with the BLM's multiple-use mandate.

The planning area is located in Kane and Garfield Counties, Utah, and encompasses approximately 1.87 million acres of public land. For the GSENM-Grand Staircase, Kaiparowits, and Escalante Canyons Units, this planning effort is needed to identify goals, objectives, and management actions necessary for the proper care and management of the objects and values identified in Proclamation 6920, as modified by Proclamation 9682. For lands in the KEPA, this planning effort is needed to identify goals, objectives, and management actions necessary to ensure that public lands and their various resource values are utilized in the combination that will best meet the present and future needs of the American people.

The entire planning area is currently managed by the BLM and under the GSENM Plan (BLM 2000), as amended. This planning effort would replace the existing Monument Management Plan with four new RMPs.

The BLM reviewed public scoping comments to identify planning issues that directed the formulation of alternatives and frames the scope of analysis in the Draft RMPs/EIS. Issues identified include management of recreation and access; paleontological and cultural resources; livestock grazing; mineral resources; and wildlife, water, vegetation, and soil resources. This planning effort also considers management of lands with wilderness characteristics and designation of Areas of Critical Environmental Concern.

The formal public-scoping process for the RMPs and EIS began on January 16, 2018, with the publication of a Notice of Intent in the Federal Register (83 FR 2179) and ended on April 11, 2018. The BLM held public scoping meetings in Kanab and Escalante, Utah, in March 2018. The Notice of Availability for the Draft RMPs/EIS was published on August 17, 2018 (83 FR 41108), followed by a Notice of Error published on August 31, 2018, that extended the public comment period on the Draft RMPs/EIS (83 FR 44659). The BLM accepted public comments on the range of alternatives, effects analysis, and Draft RMPs for 105 days, ending on November 30, 2018. During the public-comment period, public meetings were held in Kanab and Escalante, Utah.

The Draft RMPs/EIS evaluated four alternatives in detail. Alternative A is the No Action alternative, which is a continuation of existing decisions in the 2000 Monument Management Plan. Alternative B generally focuses on protection of resources (e.g., wildlife, vegetation, cultural, etc.) while providing for targeted resource use (e.g., rights-of-way, travel, mineral development). Alternative C generally represents a balance of resource protection and resource use. Alternative D generally focuses on maximizing resource use (e.g., rights-of-way, minerals development, livestock grazing) while still providing for resource protection as required by applicable regulations, laws, policies, plans, and guidance, including protection of Monument objects within the GSENM Units. Comments on the Draft RMPs/EIS received from the public, the Utah Resource Advisory Council, cooperating agencies and tribes, and internal BLM review were considered and incorporated as appropriate into the Proposed RMPs/Final EIS. Public comments resulted in the addition of clarifying text, but did not significantly change the range of alternatives considered. The BLM developed Alternative E in response to comments received on the Draft RMPs/EIS and includes elements of Alternatives A, B, C, and D.

The BLM has identified Alternative E as the agency's Proposed RMPs. Identification of this alternative, however, does not represent final agency direction. The Notice of Availability for the Proposed RMPs and Final EIS published in the Federal Register on August 23, 2019 (84 FR 44326), initiating a protest period that ended on September 23, 2019.

The modified Proposed RMPs and Final EIS and an accompanying errata sheet that includes a summary of all of the changes made are available on the BLM's ePlanning website at: https://go.usa.gov/xVCGJ. The BLM is providing a 30-day protest period for the modified Proposed RMPs and Final EIS. All protests must be in writing and submitted, as set forth in the DATES and ADDRESSES sections earlier. The BLM will accept protests pertaining to new information identified in the modified Proposed RMPs and Final EIS. Please do not resubmit protests previously submitted during the protest period that was open from August 23 through September 23, 2019. The BLM will render a written decision on valid protests received during both protest periods.

Before including your address, phone number, email address, or other personally identifiable information in your comment, you should be aware that your entire comment—including your personally identifiable information—may be made publicly available at any time. While you may request that the BLM withhold your personally identifiable information from public review, we cannot guarantee that we will be able to do so.

Authority: 40 CFR 1506.6, 40 CFR 1506.10, and 43 CFR 1610.2.

Edwin L. Roberson,
State Director.

[FR Doc. 2019-22774 Filed 10-17-19; 8:45 am]

BILLING CODE 4310-DQ-P